DEPARTMENT OF TRANSPORTATION

Federal Aviation Administration

14 CFR Part 73

[Docket No. FAA-2023-0504; Airspace Docket No. 21-ASO-25]

RIN 2120-AA66

Amendment of Restricted Areas R-3004A, R-3004B, and R-3004C; Fort Gordon, GA

AGENCY: Federal Aviation Administration (FAA), DOT.

ACTION: Notice of proposed rulemaking (NPRM).

SUMMARY: This action proposes to amend restricted areas R-3004A, R-3004B, and R-3004C at U.S. Army Installation Management Command (IMCOM) Fort Gordon, GA. The proposed amended airspace would align the lateral boundaries to encompass the majority of the training complex and amend the vertical divisions for better management to activate only the airspace required to support the Army's training. It would also remove restrictions on aircraft operations on weekends, flight above 12,000 feet above ground level (AGL), and the requirement that weather minima exceed standard Visual Flight Rules (VFR) criteria.

DATES: Comments must be received on or before May 25, 2023.

ADDRESSES: Send comments identified by FAA Docket No. FAA-2023-0504 and Airspace Docket No. 21-ASO-25 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in title 49 of the United States Code. Subtitle I, section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it as it amends restricted area airspace at Fort Gordon, GA, to enhance aviation safety and accommodate essential U.S. Army training activities.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Office (see ADDRESSES section for address, phone number, and hours of operation). An informal docket may also be examined during normal business hours at the office of the Eastern Service Center, Federal Aviation Administration, Room 210, 1701 Columbia Avenue, College Park, GA 30337.

Background

The U.S. Army submitted a proposal to the FAA to amend the existing restricted areas at IMCOM Fort Gordon, GA, to realign the lateral boundaries to encompass the majority of the training complex, to align with weapon delivery system advancements in aviation and artillery, and to contain artillery and rockets. Amending the vertical divisions of the area will align with typical training requirements and would result in simpler and more efficient scheduling, and release of airspace to the public when not in use.

The removal of the aircraft weather minima and altitude restriction will increase aviation-related training opportunities and provide additional aviation maneuvering space to support training and operations. The removal of weekend restrictions will provide the opportunity for National Guard and Reserve units to conduct air operations and airborne training during their weekend drills.

The Proposal

The FAA is proposing an amendment to 14 CFR part 73 to amend restricted areas R-3004A, R-3004B, and R-3004C at U.S. Army IMCOM Fort Gordon, GA. The three areas share common boundaries that overlie each other. The proposed changes are described below.

R-3004A: R-3004A currently extends from the surface to but not including 3,500 feet mean sea level (MSL). This proposal would lower the ceiling of R-3004A to read “to but not including 2,500 feet MSL.” This change would contain the majority of day-to-day training requirements so that, as amended, only R-3004A would need to be activated on a regular basis.

R-3004B: R-3004B currently extends from 3,500 feet MSL to 7,000 feet MSL. The floor of R-3004B would be lowered from 3,500 feet MSL to 2,500 feet MSL in conjunction with the amended ceiling of R-3004A, described above. The ceiling of R-3004B would be raised from 7,000 feet MSL to but not including 10,000 feet MSL. This change would better align restricted airspace with Fort Gordon's typical training requirements.

R-3004C: R-3004C currently extends from 7,000 feet MSL to 16,000 feet MSL. This proposal would raise the floor of R-3004C from 7,000 feet MSL to 10,000 feet MSL, in conjunction with the change to R-3004B, described above.

The proposed changes to the restricted area altitudes described above would reduce the need to activate all three restricted areas to accomplish daily training. This would provide the flexibility to activate only those restricted area segments required for the planned training events, while leaving the unused segment(s) available for access by other aviation users.

The current lateral configuration of R-3004A, B, and C is not large enough to allow for the use of realistic tactics and procedures to support current and emerging training requirements at Fort Gordon. The southwest boundary of the restricted areas extends slightly beyond the installation property line. This proposal would adjust the southwest boundary so that the boundary is contained within installation property. Additionally, the proposal would expand the lateral limits R-3004A, B, and C farther to the north and northeast to incorporate the majority of Fort Gordon property. This expansion would be fully contained within the current boundaries of federally owned land within the Fort Gordon range complex.

The time of designation for all three restricted areas would remain “By NOTAM 24 hours in advance.”

The current descriptions of R-3004A, B, and C contain certain terms and conditions that limit aircraft activities in the airspace as follows:

1. Aircraft activities must not be conducted on weekends, national holidays, or from the Sunday prior to the Masters Golf Tournament through the Monday after (and subsequent weather days if required).

2. Aircraft activities may only be conducted from the surface to 12,000 feet AGL.

3. Weather conditions required for aircraft activities are 5 miles visibility and with prevailing clouds or obscuring phenomena no greater than five-tenths coverage of the sky and bases no lower than 3,000 feet AGL.

These conditions were implemented in 1984 when the U.S. Air Force began using the restricted areas to conduct air-to-surface inert and practice ordnance delivery. The Air Force no longer uses the restricted areas for delivery of aerial munitions, so these terms and conditions now restrict combined arms and joint service training opportunities (involving aircraft) for units that train at Fort Gordon.

Consequently, this proposal would remove the restrictions on aircraft activities on weekends and remove the restrictions on aircraft activities above 12,000 feet AGL and remove the overly restrictive weather minima. However, the following limitations would be retained:

“Aircraft activities must not be conducted on national holidays, or from the Sunday prior to the Masters Tournament through the Monday after (and subsequent weather days if required).”

Regulatory Notices and Analyses

The FAA has determined that this proposed regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 73

Airspace, Prohibited areas, Restricted areas.

The Proposed Amendment

In consideration of the foregoing, the Federal Aviation Administration proposes to amend 14 CFR part 73 as follows:

PART 73—SPECIAL USE AIRSPACE

1. The authority citation for part 73 continues to read as follows:

Authority: 49 U.S.C. 106(f), 106(g); 40103, 40113, 40120; E.O. 10854, 24 FR 9565, 3 CFR, 1959-1963 Comp., p. 389.

§ 73.30 Georgia [Amended]

2. Section 73.30 is amended as follows:

* * * * *

R-3004A Fort Gordon, GA [Amended]

Boundaries. Beginning at lat. 33°25′03″N, long. 82°12′15″W;

to lat. 33°23′48″N, long. 82°08′56″W;

to lat. 33°22′20″N, long. 82°08′33″W;

to lat. 33°21′33″N, long. 82°09′10″W;

to lat. 33°20′15″N, long. 82°10′57″W.,

to lat. 33°17′41″N, long. 82°16′11″W;

to lat. 33°18′23″N, long. 82°16′17″W;

to lat. 33°18′22″N, long. 82°16′39″W;

to lat. 33°17′29″N, long. 82°16′52″W;

to lat. 33°16′57″N, long. 82°17′39″W;

to lat. 33°16′56″N, long. 82°18′50″W;

to lat. 33°17′27″N, long. 82°21′19″W;

to lat. 33°17′41″N, long. 82°22′35″W;

to lat. 33°19′26″N, long. 82°22′15″W;

to lat. 33°22′37″N, long. 82°16′58″W;

to lat. 33°23′50″N, long. 82°14′03″W;

to the point of beginning.

Designated Altitudes. Surface to but not including 2,500 feet MSL.

Time of designation. By NOTAM 24 hours in advance.

Controlling agency. FAA, Atlanta ARTCC.

Using agency. U.S. Army, Commanding Officer, Fort Gordon, GA.

Remarks. Aircraft activities must not be conducted on national holidays or from the Sunday prior to the Masters Golf Tournament through the Monday after (and subsequent weather days if required).

R-3004B Fort Gordon, GA [Amended]

Boundaries. Beginning at lat. 33°25′03″N, long. 82°12′15″W;

to lat. 33°23′48″N, long. 82°08′56″W;

to lat. 33°22′20″N, long. 82°08′33″W;

to lat. 33°21′33″N, long. 82°09′10″W;

to lat. 33°20′15″N, long. 82°10′57″W;

to lat. 33°17′41″N, long. 82°16′11″W;

to lat. 33°18′23″N, long. 82°16′17″W;

to lat. 33°18′22″N, long. 82°16′39″W;

to lat. 33°17′29″N, long. 82°16′52″W;

to lat. 33°16′57″N, long. 82°17′39″W;

to lat. 33°16′56″N, long. 82°18′50″W;

to lat. 33°17′27″N, long. 82°21′19″W;

to lat. 33°17′41″N, long. 82°22′35″W;

to lat. 33°19′26″N, long. 82°22′15″W;

to lat. 33°22′37″N, long. 82°16′58″W;

to lat. 33°23′50″N, long. 82°14′03″W;

to the point of beginning.

Designated Altitudes. 2,500 feet MSL to but not including 10,000 feet MSL.

Time of designation. By NOTAM 24 hours in advance.

Controlling agency. FAA, Atlanta ARTCC.

Using agency. U.S. Army, Commanding Officer, Fort Gordon, GA.

Remarks. Aircraft activities must not be conducted on national holidays or from the Sunday prior to the Masters Golf Tournament through the Monday after (and subsequent weather days if required).

R-3004C Fort Gordon, GA [Amended]

Boundaries. Beginning at lat. 33°25′03″N, long. 82°12′15″W;

to lat. 33°23′48″N, long. 82°08′56″W;

to lat. 33°22′20″N, long. 82°08′33″W;

to lat. 33°21′33″N, long. 82°09′10″W;

to lat. 33°20′15″N, long. 82°10′57″W;

to lat. 33°17′41″N, long. 82°16′11″W;

to lat. 33°18′23″N, long. 82°16′17″W;

to lat. 33°18′22″N, long. 82°16′39″W;

to lat. 33°17′29″N, long. 82°16′52″W;

to lat. 33°16′57″N, long. 82°17′39″W;

to lat. 33°16′56″N, long. 82°18′50″W;

to lat. 33°17′27″N, long. 82°21′19″W;

to lat. 33°17′41″N, long. 82°22′35″W;

to lat. 33°19′26″N, long. 82°22′15″W;

to lat. 33°22′37″N, long. 82°16′58″W;

to lat. 33°23′50″N, long. 82°14′03″W;

to the point of beginning.

Designated Altitudes. 10,000 feet MSL to 16,000 feet MSL.

Times of designation. By NOTAM 24 hours in advance.

Controlling agency. FAA, Atlanta ARTCC.

Using agency. U.S. Army, Commanding Officer, Fort Gordon, GA.

Remarks. Aircraft activities must not be conducted on national holidays or from the Sunday prior to the Masters Golf Tournament through the Monday after (and subsequent weather days if required).

* * * * *

Issued in Washington, DC, on April 4, 2023.
Brian Konie,
Acting Manager, Airspace Rules and Regulations Group.

[FR Doc. 2023-07398 Filed 4-7-23; 8:45 am]

BILLING CODE 4910-13-P